DEPARTMENT OF TRANSPORTATION

Pipeline and Hazardous Materials Safety Administration

Hazardous Materials: Notice of Applications for Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before March 8, 2019.

ADDRESSES: Record Center, Pipeline and Hazardous Materials Safety Administration, U.S. Department of Transportation Washington, DC 20590.

Comments should refer to the application number and be submitted in triplicate. If confirmation of receipt of comments is desired, include a self-addressed stamped postcard showing the special permit number.

FOR FURTHER INFORMATION CONTACT: Ryan Paquet, Director, Office of Hazardous Materials Approvals and Permits Division, Pipeline and Hazardous Materials Safety Administration, U.S. Department of Transportation, East Building, PHH-30, 1200 New Jersey Avenue Southeast, Washington, DC 20590-0001, (202) 366-4535.

SUPPLEMENTARY INFORMATION: Copies of the applications are available for inspection in the Records Center, East Building, PHH-30, 1200 New Jersey Avenue Southeast, Washington DC or at http://regulations.gov.

This notice of receipt of applications for special permit is published in accordance with part 107 of the Federal hazardous materials transportation law (49 U.S.C. 5117(b); 49 CFR 1.53(b)).

Issued in Washington, DC, on February 1, 2019.
Donald P. Burger,
Chief, General Approvals and Permits Branch.

Special Permits Data
Application No. | Applicant | Regulation(s) Affected | Nature of the special permits thereof
20815-N | COLEP PORTUGAL, S.A | 178.33-7(a) | To authorize the manufacture, mark, sale, and use of non-DOT specification receptacles with a reduced wall thickness. (modes 1, 2, 3, 4, 5).
20816-N | AIR PRODUCTS AND CHEMICALS, INC | 178.274, 178.277 | To authorize the manufacture of portable tanks built to ASME Section XII specifications. (modes 1, 2, 3).
20820-N | UNION TANK CAR COMPANY | 180.509(e)(4) | To authorize the inspection and testing of tank car tanks using ACFM (non-destructive test method) in lieu of the methods in 49 CFR 180.509(e)(4). (mode 2).
20821-N | SPACEFLIGHT, INC | 173.185(a) | To authorize the transportation in commerce of low production lithium ion batteries contained in equipment via air transportation. (mode 4).
20822-N | Return Solutions, Inc |  | To authorize the manufacture, mark, sale, and use of non-DOT specification packaging for the transportation in commerce of certain materials authorized to be disposed of under 21 CFR Part 1317, Subpart B. (modes 1, 2).
20824-N | WORTHINGTON CYLINDER CORPORATION | 178.65(f)(2)(iii) | To authorize the manufacture, mark, sale, and use of non-DOT specification cylinders conforming to the DOT 39 specification, except as provided herein. (modes 1, 2, 3, 4).
20826-N | CHRIS' ROCKET SUPPLIES, LLC | 173.62 | To authorize the transportation in commerce of Division 1.3 and 1.4 rocket motors, reloading kits, and igniters in non-specification outer packaging as Division 1.4. (mode 1).
20828-N | BATTERIES PLUS, LLC | 173.159(e)(1) | To authorize the transportation in commerce of batteries and lightbulbs containing mercury on the same transport vehicle without being subject to the requirements of the HMR. (mode 1).

[FR Doc. 2019-01296 Filed 2-5-19; 8:45 am]

BILLING CODE 4909-60-P